DEPARTMENT OF LABOR

Employment and Training Administration

[NAFTA-5187]

McMichal Enterprises Pahrump, NV; Notice of Termination of Investigation

Pursuant to Title V of the North American Free Trade Agreement Implementation Act (Pub. L. 103-183) concerning transitional adjustment assistance, hereinafter called NAFTA-TAA and in accordance with section 250(a), Subchapter D, Chapter 2, Title II, of the Trade Act of 1974, as amended (19 U.S.C. 2331), an investigation was initiated on August 8, 2001, in response to a petition filed on behalf of workers at McMichal Enterprises, Pahrump, Nevada.

The petitioner has requested that the petition be withdrawn. Consequently, further investigation in this case would serve no purpose, and the investigation has been terminated.

Signed in Washington, D.C. this 25th day of September, 2001.
Linda G. Poole,
Certifying Officer, Division of Trade Adjustment Assistance.

[FR Doc. 01-25475 Filed 10-10-01; 8:45 am]

BILLING CODE 4510-30-M